SECURITIES AND EXCHANGE COMMISSION

[Release No. IC-28227]

Notice of Applications for Deregistration under Section 8(f) of the Investment Company Act of 1940

March 28, 2008.

The following is a notice of applications for deregistration under section 8(f) of the Investment Company Act of 1940 for the month of March, 2008. A copy of each application may be obtained for a fee at the SEC's Public Reference Branch (tel. 202-551-5850). An order granting each application will be issued unless the SEC orders a hearing. Interested persons may request a hearing on any application by writing to the SEC's Secretary at the address below and serving the relevant applicant with a copy of the request, personally or by mail. Hearing requests should be received by the SEC by 5:30 p.m. on April 22, 2008, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street, NE., Washington, DC 20549-1090.

FOR FURTHER INFORMATION CONTACT: Diane L. Titus at (202) 551-6810, SEC, Division of Investment Management, Office of Investment Company Regulation, 100 F Street, NE., Washington, DC 20549-4041.

Skyline Funds [File No. 811-5022]

Summary: Applicant seeks an order declaring that it has ceased to be an investment company. On December 31, 2007, applicant transferred its assets to Skyline Special Equities Portfolio, a series of Managers AMG Funds, based on net asset value. Expenses of $393,155 incurred in connection with the reorganization were paid by Managers Investment Group LLC, the acquiring fund's investment adviser, and Skyline Asset Management, L.P., applicant's investment adviser.

Filing Dates: The application was filed on March 7, 2008, and amended on March 26, 2008.

Applicant's Address: 311 South Wacker Dr., Suite 4500, Chicago, IL 60606.

Excelsior Private Equity Fund II, Inc. [File No. 811-8149]

Summary: Applicant, a closed-end investment company, seeks an order declaring that it has ceased to be an investment company. On October 29, 2007, applicant made a final liquidating distribution to its shareholders, based on net asset value. Expenses of $475,230 incurred in connection with the liquidation were paid by applicant and UST Advisers, Inc., applicant's investment adviser.

Filing Dates: The application was filed on January 29, 2008, and amended on March 26, 2008.

Applicant's Address: 225 High Ridge Rd., Stamford, CT 06905.

The Munder @Vantage Fund [File No. 811-9937]

Summary: Applicant, a closed-end investment company, seeks an order declaring that it has ceased to be an investment company. On December 14, 2007, applicant transferred its assets to Munder Internet Fund, a series of Munder Series Trust, based on net asset value. Expenses of approximately $155,530 incurred in connection with the reorganization were paid by Munder Capital Management, applicant's investment adviser. Applicant has retained approximately $14,200 in cash to pay certain outstanding liabilities.

Filing Dates: The application was filed on March 3, 2008, and amended on March 26, 2008.

Applicant's Address: 480 Pierce St., Birmingham, MI 48009.

Dreyfus Balanced Fund, Inc. [File No. 811-7068]

Summary: Applicant seeks an order declaring that it has ceased to be an investment company. On December 17, 2004, applicant transferred its assets to Dreyfus Premier Balanced Opportunity Fund, a corresponding series of Dreyfus Premier Manager Funds II, based on net asset value. Expenses of $64,000 incurred in connection with the reorganization were paid by The Dreyfus Corporation, applicant's investment adviser.

Filing Dates: The application was filed on January 30, 2008, and amended on March 20, 2008.

Applicant's Address: c/o The Dreyfus Corporation, 200 Park Ave., New York, NY 10166.

SEI Index Funds [File No. 811-4283]

Summary: Applicant seeks an order declaring that it has ceased to be an investment company. On September 14, 2007, applicant transferred its assets to S&P 500 Index Fund, a series of SEI Institutional Managed Trust, based on net asset value. Expenses of $148,500 incurred in connection with the reorganization were paid by applicant and SEI Investment Management Corporation, applicant's investment adviser.

Filing Date: The application was filed on March 3, 2008.

Applicant's Address: One Freedom Valley Dr., Oaks, PA 19456.

HBI Equity Trust, Series 1 [File No. 811-8184]

Summary: Applicant, a unit investment trust, seeks an order declaring that it has ceased to be an investment company. On May 15, 2001, applicant made a liquidating distribution to its unitholders, based on net asset value. Applicant incurred no expenses in connection with the liquidation.

Filing Date: The application was filed on February 19, 2008.

Applicant's Address: 222 South Riverside Plaza, 7th Floor, Chicago, IL 60606.

Private Asset Management Fund [File No. 811-21049]

Summary: Applicant seeks an order declaring that it has ceased to be an investment company. On December 27, 2007, applicant made a liquidating distribution to its shareholders based on net asset value. Expenses of $2,540 incurred in connection with the liquidation were paid by Private Asset Management, Inc., applicant's investment adviser.

Filing Date: The application was filed on February 25, 2008.

Applicant's Address: 11995 El Camino Real, Suite 303, San Diego, CA 92130.

Alliance All-Market Advantage Fund, Inc. [File No. 811-8702]

Summary: Applicant, a closed-end investment company, seeks an order declaring that it has ceased to be an investment company. On February 1, 2008, applicant transferred its assets to AllianceBernstein Large Cap Growth Fund, Inc., based on net asset value. Expenses of $260,000 incurred in connection with the reorganization were paid by applicant.

Filing Date: The application was filed on February 21, 2008.

Applicant's Address: 1345 Avenue of the Americas, New York, NY 10105.

Oppenheimer Emerging Technologies Fund [File No. 811-9845]

Summary: Applicant seeks an order declaring that it has ceased to be an investment company. On October 26, 2007, applicant transferred its assets to Oppenheimer Capital Appreciation Fund, based on net asset value. Expenses of approximately $102,108 incurred in connection with the reorganization were paid by applicant.

Filing Date: The application was filed on March 11, 2008.

Applicant's Address: 6803 South Tucson Way, Centennial, CO 80112.

Fortress Pinnacle Investment Fund LLC [File No. 811-21232]

Summary: Applicant, a closed-end investment company, seeks an order declaring that it has ceased to be an investment company. On November 27, 2007, applicant distributed to its preferred shareholders cash payments equal to the face amount of their securities plus preferred dividends accrued. On January 22, 2008, applicant made a liquidating distribution to its common shareholders, based on net asset value. Expenses of $195,000 incurred in connection with the liquidation will be paid by applicant. Applicant has retained approximately $260,159 in cash to cover the outstanding expenses. After these expenses have been paid, remaining monies will be distributed pro rata to the common shareholders.

Filing Dates: The application was filed on January 30, 2008, and amended on March 11, 2008.

Applicant's Address: c/o Skadden, Arps, Slate, Meagher & Flom LLP, Four Times Sq., New York, NY 10036.

Atlas Insurance Trust [File No. 811-8041]

Summary: Applicant seeks an order declaring that it has ceased to be an investment company. On February 26, 2007, applicant made a liquidating distribution to its shareholders, based on net asset value. Applicant incurred no expenses in connection with the liquidation.

Filing Dates: The application was filed on December 19, 2007, and amended on January 31, 2008.

Applicant's Address: 794 Davis Street, San Leandro, CA 94577.

For the Commission, by the Division of Investment Management, pursuant to delegated authority.
Florence E. Harmon,
Deputy Secretary.

[FR Doc. E8-6873 Filed 4-2-08; 8:45 am]

BILLING CODE 8011-01-P